DEPARTMENT OF AGRICULTURE

Forest Service

Information Collection; Advertised Timber for Sale

AGENCY: Forest Service, USDA.

ACTION: Notice; request for comments.

SUMMARY: In accordance with the Paperwork Reduction Act of 1995, the Forest Service is seeking comments from all interested individuals and organizations on the extension of the currently approved collection for from FS-2400-14, Bid for Advertised Timber, and form, FS-2400-42a, National Forest Timber for Sale (Advertisement and Short-Form Bid). The agency uses the collected information to ensure that National Forest System timber is sold at not less than appraised value; that bidders meet specific criteria when submitting a bid; and that anti-trust violations do not occur during the bidding process.

DATES: Comments must be received in writing on or before July 11, 2003 to be assured of consideration. Comments received after that date will be considered to the extent practicable.

ADDRESSES: Comments concerning this notice should be addressed to the Director, Forest and Rangeland Management Staff, Mail Stop 1105, Forest Service, USDA, 1400 Independence Avenue, SW., Washington, DC 20090-1105. Comments also may be submitted via facsimile to (202) 205-1045 or by e-mail to: fm/wo@fs.fed.us.

The public may inspect comments received at the Office of the Director of Forest and Rangelands Management, 201 14th Street, SW., Washington, DC. Callers are urged to call ahead to facilitate entrance into the buildings to (202) 205-0893.

FOR FURTHER INFORMATION CONTACT: Rex Baumback, Forest and Rangelands Management Staff, at (202) 205-0855.

SUPPLEMENTARY INFORMATION:

Background

Pursuant to statutory requirements at 16 U.S.C. 472a, the Secretary of Agriculture must advertise sales of all National Forest System timber or forest products exceeding $10,000 in appraised value, unless (1) extraordinary conditions exist as defined by regulation; (2) select bidding methods ensure open and fair competition; (3) select bidding methods ensure that the Federal Government receives not less than appraised value of the timber or forest product; and (4) bidding patterns are monitored for evidence of unlawful bidding practices.

Pursuant to the Forest Service Small Business Timber Sale Set-Aside Program, development in cooperation with the Small Business Administration, Forest Service regulations at 36 CFR 223.84 require that the Forest Service bid form used by potential timber sale bidders include provisions for small business concerns, such as (1) electing road construction by the Forest Service; (2) certifying as to their small business status; and (3) being informed of other road construction requirements in the bid and/or contract.

FS-2400-14-Bid for Advertised Timber and FS-2400-42a-National Forest Timber Sale implement the same statues, policies, and regulations and collect similar information from the same applicant. The data gathered in this information collection is not available from other sources.

Description of Information Collection

1. Title: FS-2400-42a, National Forest Timber for Sale (Advertisement and Short-Form Bid).

OMB Number: 0596-0066.

Expiration Date of Approval: May 31, 2003.

Type of Request: Extension.

Abstract: The data collected are used by the agency to ensure that National Forest System timber is sold at not less than appraised value, that bidders meet specific criteria when submitting a bid, and that anti-trust violations do not occur during the bidding process.

Form FS-2400-42a-National Forest Timber for Sale is used to solicit and receive bids on short-notice timber sales advertised for less than 30 days and for less than $10,000 in advertised value. Respondents are bidders on National Forest System timber sales. Forest Service sale officers mail bid forms to potential bidders, and bidders return the completed forms, dated and signed, to the Forest Service sale officer.

Before submitting a bid, bidders usually, but are not required to, inspect the sale area, review the requirements of the sample contract, and take other steps as may be reasonably necessary to asscertain the location, estimated volumes, and operating costs of the offered timber or forest product. Each bidder must include the following information: The price bid for the timber; the bidder's name, address, and signature; the bidder's tax identification number, certification that the bidder is not debarred, suspended, proposed for debarment, or voluntarily excluded from bidding on Government contracts; and that the bidder has not defaulted on any contracts within the last 3 years.

The tax identification number of each bidder is entered into an automated bid monitoring system, which is used to determine if speculative bidding or unlawful bidding practices are occurring. The tax identification number also is used to facilitate electronic payments to the purchaser. The data gathered in this information collection is not available from other sources.

Estimate of Burden: 130 minutes.

Type of Respondents: Individuals, large and small businesses, and corporations bidding on National Forest timber sales.

Estimated Number of Respondents: 5,000.

Estimated Number of Responses per Respondent: 3.

Estimated Total Annual Burden on Respondents: 32,505 hours.

2. Title: FS-2400-14, Bid For Advertised Timber.

OMB Number: 0596-0066.

Expiration Date of Approval: May 31, 2003.

Type of Request: Extension.

Abstract: The data collected will be used by the agency to ensure that National Forest System timber will be sold at not less than appraised value, that bidders will meet specific criteria when submitting a bid, and that anti-trust violations will not occur during the bidding process. This form will be used for soliciting and receiving bids on sales advertised for 30 days or longer and on sales greater than $10,000 in advertised value.

Respondents will be bidders on National Forest System timber sales. Forest Service sale officers will mail bid forms to potential bidders, and bidders will return the completed forms, dated and signed, to the Forest Service sale officer. Before submitting the bid, the bidder usually will inspect the sale area, review the requirements of the sample contract, and take other steps as may be reasonably necessary to ascertain the location, estimated volumes, and operating costs of the offered timber or forest product.

Each bidder will have to include the following information: (1) The price bid for the timber; (2) the bidder's name, address, and signature; (3) the bidder's tax identification number; (4) the amount and type of the bid guarantee; (5) certification that the bidder has not paid a contingent fee to someone to obtain the contract for him or her, or retained any person or company to secure the contract; (6) certification that the bidder will meet the responsibility requirements at Title 36 of the Code of Federal Regulations (CFR), § 223.101; (7) certification that the bidder will complete the consideration requirements of the contract; (8) certification that the bidder has not been debarred, suspended, proposed for debarment, or voluntarily excluded from conducting business with the government; (9) certification that the bidder has not been indicted or has not had a criminal or civil conviction within a 3-year period; (10) certification that the bidder has not defaulted on a public contract or agreement in the last 3 years; (11) information on whether the bidder has participated in a previous contract covered by section 202 of Executive Order 11246, Non-discrimination in Employment; (12) certification that the bidder has independently determined the bid price; (13) selection of the road construction option; (14) certification of a firm offer; (15) certification that the bidder has expressly adopted the terms of the bid and sample contract; (16) certification that the bidder has inspected the sale area and certifies that he or she understands that the Forest Service does not guarantee the amount or quality of the timber or forest product; (17) certification that the bidder will comply with the Forest Resources Conservation and Shortage Relief Act of 1990 as required by 36 CFR 223.87; (18) certification that the bidder has not been or will not be affiliated with the original purchaser of a contract on a timber sale that is being re-offered, when the original contract was terminated for breach or failure to cut; and (19) a list provided by the bidder of affiliates that control or have the power to control the bidder's company.

The tax identification number of each bidder will be entered into a computerized bid monitoring system. This system will be used to determine if speculative bidding or if unlawful bidding practices are occurring. The tax identification number also will be used to facilitate electronic payments to the purchaser. The data gathered in this information collection are not available from other sources.

Estimate of Burden: 370 minutes.

Type of Respondents: Individuals, large and small businesses, and corporations bidding on National Forest timber sales.

Estimated Number of Respondents: 500.

Estimated Number of Responses per Respondent: 2.0.

Estimated Total Annual Burden on Respondents: 6,167 hours.

Comment Is Invited

The agency invites comments on the following: (a) Whether the proposed collection of information is necessary for the stated purposes or the proper performance of the functions of the agency, including whether the information shall have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including name and address when provided, will be summarized and included in the request for Office of Management and Budget approval. All comments also will become a matter of public record.

Dated: April 23, 2003.
Abigail R. Kimbell,
Associate Chief, National Forest System.

[FR Doc. 03-11682 Filed 5-9-03; 8:45 am]

BILLING CODE 3410-11-M